DEPARTMENT OF COMMERCE

National Oceanic and Atmospheric Administration

[RTID 0648-XA403]

South Atlantic Fishery Management Council; Public Meetings

AGENCY: National Marine Fisheries Service (NMFS), National Oceanic and Atmospheric Administration (NOAA), Commerce.

ACTION: Notice of public meetings.

SUMMARY: The South Atlantic Fishery Management Council (Council) will hold meetings of the following: Snapper Grouper Committee; Southeast Data, Assessment and Review (SEDAR) Committee; Dolphin Wahoo Committee; and Executive Committee (partially Closed Session). The meeting week will also include a formal public comment session and a meeting of the Full Council (with a partially Closed Session). Due to public health concerns associated with COVID-19 and current travel restrictions, the meeting originally planned for Charleston, SC will be held via webinar.

DATES: The Council meeting will be held from 9 a.m. on Monday, September 14, 2020 until 5 p.m. on Thursday, September 17, 2020.

ADDRESSES: The meetings will be held via webinar. Webinar registration is required. Details are included in SUPPLEMENTARY INFORMATION.

FOR FURTHER INFORMATION CONTACT: Kim Iverson, Public Information Officer, SAFMC; phone: (843) 302-8440 or toll free: (866) SAFMC-10; fax: (843) 769-4520; email: kim.iverson@safmc.net.

SUPPLEMENTARY INFORMATION: Meeting information, including agendas, overviews, and briefing book materials will be posted on the Council's website at: http://safmc.net/safmc-meetings/council-meetings/. Webinar registration links for each meeting day will also be available from the Council's website.

Public comment: Written comments may be directed to John Carmichael, Executive Director, South Atlantic Fishery Management Council (see ADDRESSES) or electronically via the Council's website at http://safmc.net/safmc-meetings/council-meetings/. Comments received by close of business the Monday before the meeting (9/7/20) will be compiled, posted to the website as part of the meeting materials, and included in the administrative record; please use the Council's online form available from the website. For written comments received after the Monday before the meeting must use the Council's online form available from the website. Comments will automatically be posted to the website and available for Council consideration. Comments received prior to 9 a.m. on Thursday, September 17, 2020 will be a part of the meeting administrative record.

The items of discussion in the individual meeting agendas are as follows:

Full Council Sessions

Council Session I—Monday, September 14, 2020, 9 a.m. until 12 p.m. (Closed Session); Council Session II—Monday, September 14, 2020, 1:30 p.m. until 5 p.m. and Tuesday, September 15, 2020, 9 a.m. until 11 a.m.; and Council Session III—Thursday, September 17, 2020 from 1:30 p.m. until 5 p.m.

Council Session I, Monday September 14, 2020, 9 a.m. Until 12 p.m. (Closed Session)

1. The Council will recommend applicants for open advisory panel seats.

2. The Council will recommend appointees for SEDAR stock assessment projects.

3. A legal briefing on litigation will also be held if needed.

Council Session II, Monday, September 14, 2020, 1:30 p.m. Until 5 p.m. and Tuesday, September 15, 2020 From 9 a.m. Until 11 a.m.

1. Newly appointed Council members will be sworn in.

2. The Council will develop a response to the President's Executive Order on Promoting American Seafood Competitiveness and Economic Growth.

3. Council members will receive an update from NOAA Fisheries on recent emergency action requests to increase the bag limit for King Mackerel and the commercial trip limit for Vermilion Snapper and consider requesting additional emergency actions.

4. The Council will receive a report from NOAA Fisheries on the Standardized Bycatch Reporting Methodology.

5. The Council will review sector allocation alternatives and recommend how to proceed.

Snapper Grouper Committee, Tuesday, September 15, 2020, 11 a.m. Until 12 p.m. and 1:30 p.m. Until 4:30 p.m.

1. The Committee will receive an update from NOAA Fisheries on the status of amendments under review

2. The Committee will review the 2020 South Atlantic Red Snapper Season.

3. The Committee will review an options paper for modernizing the Wreckfish Individual Transferable Quota (ITQ) Program and consider approval for public scoping.

4. The Committee will review potential management measures to end overfishing and revise the rebuilding plan for Red Porgy and provide direction to staff.

5. The Committee will provide topics for consideration during the November 2020 meeting of the Snapper Grouper Advisory Panel.

SEDAR Committee, Tuesday, September 15, 2020, 4:30 p.m. Until 5 p.m.

1. The Committee will review the SEDAR Statement of Works for assessments that will begin in 2023 and approve for Council consideration.

2. The Committee will receive an update from the SEDAR Steering Committee on the Research Track and Operational Assessment Process and consider recommendations.

Dolphin Wahoo Committee, Wednesday, September 16, 2020, 9 a.m. Until 3:45 p.m.

1. The Committee will review draft Amendment 10 to the Dolphin Wahoo Fishery Management Plan (FMP) with actions that currently address: Revisions to recreational data and catch level recommendations, redefining Optimum Yield in the dolphin fishery, modifications to accountability measures, and other management revisions to the dolphin and wahoo fisheries. The Committee will review the draft Amendment and provide direction to staff.

2. The Committee will review draft Amendment 12 to the Dolphin Wahoo FMP with measures to add bullet mackerel and frigate mackerel as Ecosystem Component species to the Dolphin Wahoo FMP and consider final approval of the amendment for Secretarial review.

3. The Committee will receive a presentation on recent tagging studies conducted through the Dolphinfish Research Program.

4. The Committee will provide recommendations for management topics to be considered at the October meeting of the Dolphin Wahoo Advisory Panel.

Formal Public Comment, Wednesday, September 16, 2020, 4 p.m.—Public comment will be accepted via webinar on items on the Council meeting agenda scheduled to be approved for Secretarial Review: Amendment 12 to the Dolphin Wahoo Fishery Management Plan (Bullet and Frigate Mackerel as Ecosystem Component Species). Public comment will also be accepted on all other agenda items. The Council Chair, based on the number of individuals wishing to comment, will determine the amount of time provided to each commenter.

Executive Committee, Thursday, September 17, 2020, 9 a.m. Until 12 p.m. (Partially Closed Session)

Closed Session

1. The Committee will review the compositions of its Scientific and Statistical Committee and its Outreach and Communications Advisory Panel and provide recommendations for Council consideration.

2. The Committee will also review the Council's Sexual Harassment identification and prevention efforts.

Open Session

1. The Committee will review new travel forms and the Council's Priorities Work Schedule and provide recommendations as needed.

Council Session III, Thursday, September 17, 2020, 1:30 p.m. Until 5 p.m.

The Full Council Session III will begin with the Call to Order, adoption of the agenda, approval of minutes, and Council elections.

The Council will receive a staff report from the Executive Director, and updates on Outreach and Communications efforts, the Council's Citizen Science Program, and Atlantic coast climate change scenario planning.

NOAA Fisheries Southeast Fisheries Science Center staff will provide reports on the status of commercial electronic logbooks and pandemic response impacts on surveys and fishery monitoring.

NOAA Fisheries Southeast Regional Office staff will provide an update on the status of the For-Hire Electronic Reporting Amendment and a report on Protected Resources.

The Council will receive reports from the following committees: Snapper Grouper; SEDAR; Dolphin Wahoo; and Executive. The Council will also address advisory panel and SEDAR appointments.

The Council will receive agency and liaison reports, discuss other business and upcoming meetings, and take action as necessary.

Documents regarding these issues are available from the Council office (see ADDRESSES).

Although non-emergency issues not contained in this agenda may come before this group for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the Council office (see ADDRESSES) 5 days prior to the meeting.

Note: The times and sequence specified in this agenda are subject to change.

Authority: 16 U.S.C. 1801 et seq.

Dated: August 25, 2020.
Tracey L. Thompson,
Acting Deputy Director, Office of Sustainable Fisheries, National Marine Fisheries Service.

[FR Doc. 2020-18964 Filed 8-27-20; 8:45 am]

BILLING CODE 3510-22-P